DEPARTMENT OF TRANSPORTATION

Federal Aviation Administration

14 CFR Part 39

[Docket No. FAA-2009-0789; Directorate Identifier 2008-NM-185-AD]

RIN 2120-AA64

Airworthiness Directives; Airbus Model A300 B2-1C, B2-203, B2K-3C, B4-103, B4-203, B4-2C Airplanes; Model A310 Airplanes; and Model A300 B4-601, B4-603, B4-605R, B4-620, B4-622, and B4-622R Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Cracks have been found on pylon side panels (upper section) at rib 8 on Airbus A300, A310 and A300-600 aircraft equipped with General Electric engines. Investigation of these findings indicates that this problem is likely to affect aircraft of this type design with other engine installations. This condition, if not corrected, can lead to reduced strength [structural integrity] of the pylon primary structure.

The unsafe condition is reduced structural integrity of the pylon primary structure, which could cause detachment of the engine from the fuselage. The proposed AD would require actions that are intended to address the unsafe condition described in the MCAI.

DATES: We must receive comments on this proposed AD by November 5, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays. For service information identified in this proposed AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2009-0789; Directorate Identifier 2008-NM-185-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0181, dated October 1, 2008 (referred to after this as “the MCAI”), to correct an unsafe condition for the specified products. The MCAI states:

Cracks have been found on pylon side panels (upper section) at rib 8 on Airbus A300, A310 and A300-600 aircraft equipped with General Electric engines. Investigation of these findings indicates that this problem is likely to affect aircraft of this type design with other engine installations. This condition, if not corrected, can lead to reduced strength [structural integrity] of the pylon primary structure.

In order to detect any crack propagation at an early stage, thus avoiding an extensive repair, Airbus issued Service Bulletins (SB) A300-54-0075, A310-54-2018 and A300-54-6015. * * *

This AD requires the implementation of this * * * inspection programme.

The unsafe condition is reduced structural integrity of the pylon primary structure, which could cause detachment of the engine from the fuselage. Required actions include repetitive detailed visual inspections, or repetitive eddy current and detailed visual inspections, to detect cracks, depending on the airplane configuration, and corrective actions if necessary. The corrective actions include repairing the cracking, and contacting Airbus for repair instructions and doing the repair, as applicable.

You may obtain further information by examining the MCAI in the AD docket.

Relevant Service Information

Airbus has issued Mandatory Service Bulletins A300-54-0075, A310-54-2018, and A300-54-6015, all Revision 02, all including Appendices 1, 2, and 3, all dated June 26, 2008. The actions described in this service information are intended to correct the unsafe condition identified in the MCAI.

Depending on the model and engine type, the initial compliance times for doing the inspections range between 9,300 flight cycles since doing the repair or modification and 22,600 flight cycles or 45,200 flight hours, whichever occurs first, since doing the repair or modification; the repetitive intervals are between 5,300 flight cycles and 33,900 flight cycles or 67,800 flight hours, whichever occurs first.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 230 products of U.S. registry. We also estimate that it would take about 4 work-hours per product to comply with the basic requirements of this proposed AD. The average labor rate is $80 per work-hour. Based on these figures, we estimate the cost of the proposed AD on U.S. operators to be $73,600, or $320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2009-0789; Directorate Identifier 2008-NM-185-AD.

Comments Due Date

(a) We must receive comments by November 5, 2009.

Affected ADs

(b) None.

Applicability

(c) This AD applies to the airplanes, certificated in any category, identified in paragraphs (c)(1), (c)(2), and (c)(3) of this AD.

(1) Airbus Model A300 B2-1C, A300 B2-203, A300 B2K-3C, A300 B4-103, A300 B4-203, and A300 B4-2C airplanes, all serial numbers incorporating Airbus modification 02434 or 03599;

(2) Airbus Model A310-203, A310-204, A310-221, A310-222, A310-304, A310-322, A310-324, and A310-325 airplanes, all serial numbers, except airplanes incorporating Airbus modification 10432;

(3) Airbus Model A300 B4-601, A300 B4-603, A300 B4-605R, A300 B4-620, A300 B4-622, and A300 B4-622R airplanes, all serial numbers, except airplanes incorporating Airbus modification 10432.

Subject

(d) Air Transport Association (ATA) of America Code 54: Nacelles/Pylons.

Reason

(e) The mandatory continuing airworthiness information (MCAI) states:

Cracks have been found on pylon side panels (upper section) at rib 8 on Airbus A300, A310 and A300-600 aircraft equipped with General Electric engines. Investigation of these findings indicates that this problem is likely to affect aircraft of this type design with other engine installations. This condition, if not corrected, can lead to reduced strength [structural integrity] of the pylon primary structure.

In order to detect any crack propagation at an early stage, thus avoiding an extensive repair, Airbus issued Service Bulletins (SB) A300-54-0075, A310-54-2018 and A300-54-6015. * * *

This AD requires the implementation of this * * * inspection programme.

The unsafe condition is reduced structural integrity of the pylon primary structure, which could cause detachment of the engine from the fuselage. Required actions include repetitive detailed visual inspections, or repetitive eddy current and detailed visual inspections, to detect cracks, depending on the airplane configuration, and corrective actions if necessary. The corrective actions include repairing the cracking, and contacting Airbus for repair instructions and doing the repair, as applicable.

Actions and Compliance

(f) Unless already done, do the following actions.

(1) For Configuration 01 airplanes as identified in the applicable service bulletin identified in Table 2 of this AD: At the applicable time specified in Table 1 of this AD, except as required by paragraphs (f)(2) and (f)(3) of this AD, perform a detailed visual inspection of the pylons 1 and 2 side panels (upper section) at rib 8, in accordance with the Accomplishment Instructions of the applicable service bulletin identified in Table 2 of this AD. Repeat the inspection at the time specified in Table 1 of this AD.

Table 1—Compliance Times for Configuration 1
For model— | That have accumulated— | Inspect before the accumulation of— | Or within— | And repeat the inspection at intervals not to exceed—
|  | Whichever occurs later |  |
A300 B2-1C, B2-203, and B2K-3C airplanes | ≤17,500 total flight cycles ¹ | 5,350 total flight cycles | 2,500 flight cycles ² | 4,300 flight cycles.
A300 B2-1C, B2-203, and B2K-3C airplanes | >17,500 total flight ¹ | 20,000 total flight cycles or 40,000 total flight hours, whichever occurs first | 250 flight cycles ² | 4,300 flight cycles.
A300 B4-103, B4-203, and B4-2C airplanes | ≤18,000 total flight cycles ¹ | 5,350 total flight cycles | 2,000 flight cycles ² | 4,300 flight cycles.
A300 B4-103, B4-203, and B4-2C airplanes | >18,000 total flight cycles ¹ | 20,000 total flight cycles or 40,000 total flight hours, whichever occurs first | 250 flight cycles ² | 4,300 flight cycles.
A300 B4-601, B4-603, B4-605R, B4-620, B4-622, and B4-622R airplanes | ≤18,000 total flight cycles ¹ | 4,200 total flight cycles | 2,000 flight cycles ² | 3,600 flight cycles.
A300 B4-601, B4-603, B4-605R, B4-620, B4-622, and B4-622R airplanes | >18,000 total flight cycles ¹ | 20,000 total flight cycles or 40,000 total flight hours, whichever occurs first | 250 flight cycles ² | 3,600 flight cycles.
A310-200 airplanes with GE CF6-80A3 or Pratt & Whitney engines | ≤18,000 total flight cycles ¹ | 9,700 total flight cycles or 19,400 total flight hours, whichever occurs first | 1,500 flight cycles ² | 6,700 flight cycles or 13,400 flight hours, whichever occurs first.
A310-200 airplanes with GE CF6-80A3 or Pratt & Whitney engines | >18,000 total flight cycles ¹ | 19,500 total flight cycles or 55,500 total flight hours, whichever occurs first | 250 flight cycles ² | 6,700 flight cycles or 13,400 flight hours, whichever occurs first.
A310-200 airplanes with GE CF6-80C2 engines | ≤18,000 total flight cycles ¹ | 7,800 total flight cycles or 15,600 total flight hours, whichever occurs first | 1,500 flight cycles ² | 5,800 flight cycles or 11,600 flight hours, whichever occurs first.
A310-200 airplanes with GE CF6-80C2 engines | >18,000 total flight cycles ¹ | 19,500 total flight cycles or 55,500 total flight hours, whichever occurs first | 250 flight cycles ² | 5,800 flight cycles or 11,600 flight hours, whichever occurs first.
A310-300 SR ³ airplanes with Pratt & Whitney JT9D engines | ≤18,000 total flight cycles ¹ | 8,600 total flight cycles or 24,000 total flight hours, whichever occurs first | 1,500 total flight cycles ² | 6,700 flight cycles or 18,700 flight hours, whichever occurs first.
A310-300 SR ³ airplanes with Pratt & Whitney JT9D engines | >18,000 total flight cycles ¹ | 19,500 total flight cycles or 55,500 total flight hours, whichever occurs first | 250 flight cycles ² | 6,700 flight cycles or 18,700 flight hours, whichever occurs first.
A310-300 SR ³ airplanes with GE engines | ≤18,000 total flight cycles ¹ | 7,000 total flight cycles or 19,600 total flight hours, whichever occurs first | 1,500 flight cycles ² | 5,700 flight cycles or 15,900 flight hours, whichever occurs first.
A310-300 SR ² airplanes with GE engines | >18,000 total flight cycles ¹ | 19,500 total flight cycles or 55,500 total flight hours, whichever occurs first | 250 flight cycles ² | 5,700 flight cycles or 15,900 flight hours, whichever occurs first.
A310-300 SR ³ airplanes with Pratt & Whitney 4000 engines | ≤18,000 total flight cycles ¹ | 7,000 total flight cycles or 19,600 total flight hours, whichever occurs first | 1,500 flight cycles ² | 5,800 flight cycles or 16,200 flight hours, whichever occurs first.
A310-300 SR ³ airplanes with Pratt & Whitney 4000 engines | >18,000 total flight cycles ¹ | 19,500 total flight cycles or 55,500 total flight hours, whichever occurs first | 250 flight cycles ² | 5,800 flight cycles or 16,200 flight hours, whichever occurs first.
A310-300 LR ⁴ airplanes with Pratt & Whitney JT9D engines | ≤18,000 total flight cycles ¹ | 5,900 total flight cycles or 29,500 total flight hours, whichever occurs first | 1,500 flight cycles ² | 6,000 flight cycles or 30,300 flight hours, whichever occurs first.
A310-300 LR ⁴ airplanes with Pratt & Whitney JT9D engines | >18,000 total flight cycles ¹ | 19,500 total flight cycles or 55,500 total flight hours, whichever occurs first | 250 flight cycles ² | 6,000 flight cycles or 30,300 flight hours, whichever occurs first.
A310-300 LR ⁴ airplanes with GE engines | ≤18,000 total flight cycles ¹ | 4,800 total flight cycles or 24,100 total flight hours, whichever occurs first | 1,500 flight cycles ² | 5,100 flight cycles or 25,500 flight hours, whichever occurs first.
A310-300 LR ⁴ airplanes with GE engines | >18,000 total flight cycles ¹ | 19,500 total flight cycles or 55,500 total flight hours, whichever occurs first | 250 flight cycles ² | 5,100 flight cycles or 25,500 flight hours, whichever occurs first.
A310-300 LR ⁴ airplanes with Pratt & Whitney 4000 engines | ≤18,000 total flight cycles ¹ | 4,800 total flight cycles or 24,000 total flight hours, whichever occurs first | 1,500 flight cycles ² | 5,200 flight cycles or 26,300 flight hours, whichever occurs first.
A310-300 LR ⁴ airplanes with Pratt & Whitney 4000 engines | >18,000 total flight cycles ¹ | 19,500 total flight cycles or 55,500 total flight hours, whichever occurs first | 250 flight cycles ² | 5,200 flight cycles or 26,300 flight hours, whichever occurs first.
¹ As of the effective date of this AD
² After the effective date of this AD
³ “SR” applies to airplanes with average flights less than 4 flight hours.
⁴ “LR” refers to airplanes with average flights of 4 or more flight hours.

(2) For Model A300 and A300-600 airplanes that have accumulated more than 40,000 total flight hours as of the effective date of this AD: Within 250 flight cycles after the effective date of this AD, do the actions specified in paragraph (f)(1) of this AD.

(3) For Model A310 airplanes that have accumulated more than 55,500 total flight hours as of the effective date of this AD: Within 250 flight cycles after the effective date of this AD, do the actions specified in paragraph (f)(1) of this AD.

(4) For Configuration 01 airplanes, as identified in the applicable service bulletin identified in Table 2 of this AD: If a crack is found during any inspection required by this AD, before further flight, install a doubler, in accordance with the Accomplishment Instructions of the applicable service bulletin identified in Table 2 of this AD.

(5) For Configuration 02 airplanes, as identified in the applicable service bulletin identified in Table 2 of this AD: At the applicable time specified in paragraph 1.E.(2) of the applicable service bulletin identified in Table 2 of this AD, or within 250 flight cycles after the effective date of this AD, whichever occurs later, perform a detailed visual inspection of the pylons 1 and 2 side panels (upper section) at rib 8, in accordance with the Accomplishment Instructions of the applicable service bulletin identified in Table 2 of this AD.

(6) For Configuration 03 airplanes, as identified in the applicable service bulletin identified in Table 2 of this AD: At the applicable time specified in paragraph 1.E.(2) of the applicable service bulletin identified in Table 2 of this AD, or within 250 flight cycles after the effective date of this AD, whichever occurs later, perform a detailed visual inspection, and a high frequency eddy current inspection as applicable, of the pylons 1 and 2 side panels (upper section) at rib 8, in accordance with the Accomplishment Instructions of the applicable service bulletin identified in Table 2 of this AD.

(7) For Configuration 02 and 03 airplanes, as identified in the applicable service bulletin identified in Table 2 of this AD: If a crack is found during any inspection required by paragraph (f)(1), (f)(5), or (f)(6) of this AD, before further flight, repair in accordance with the Accomplishment Instructions of the applicable service bulletin identified in Table 2 of this AD.

(8) For all airplanes, except those in Configuration 01, as identified in the applicable service bulletin identified in Table 2 of this AD: Repeat the inspection specified in paragraph (f)(1), (f)(5), or (f)(6) of this AD, as applicable, at the intervals specified in paragraph 1.E.(2) of the applicable service bulletin identified in Table 2 of this AD.

Table 2—Service Bulletins
For model— | Use Airbus mandatory Service Bulletin— | Revision— | Dated—
A300 B2-1C, B2-203, B2K-3C, B4-103, B4-203, and B4-2C airplanes | A300-54-0075, excluding Appendices 1, 2, and 3 | 02 | June 26, 2008.
A310 airplanes | A310-54-2018, excluding Appendices 1, 2, and 3 | 02 | June 26, 2008.
A300 B4-601, B4-603, B4-605R, B4-620, B4-622, and B4-622R airplanes | A300-54-6015, excluding Appendices 1, 2, and 3 | 02 | June 26, 2008.

(9) Inspections and corrective actions accomplished prior to the effective date of this AD in accordance with the service bulletins identified in Table 3 of this AD, as applicable to airplane model, are acceptable for compliance with the corresponding requirements of this AD.

Table 3—Airbus Service Information
Service Bulletin— | Revision— | Dated—
Airbus Service Bulletin A300-54-0075 | Original | August 11, 1993.
Airbus Mandatory Service Bulletin A300-54-0075 | 01 | November 9, 2007.
Airbus Service Bulletin A310-54-2018 | Original | August 11, 1993.
Airbus Mandatory Service Bulletin A310-54-2018 | 01 | November 16, 2007.
Airbus Service Bulletin A300-54-6015 | Original | August 11, 1993.
Airbus Mandatory Service Bulletin A300-54-6015 | 01 | November 9, 2007.

FAA AD Differences

Note 1: This AD differs from the MCAI and/or service information as follows: Although the MCAI/service information allows further flight after cracks are found during compliance with certain actions, this AD requires that you repair the crack(s) before further flight.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your appropriate principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2008-0181, dated October 1, 2008; and the service bulletins identified in Table 2 of this AD; for related information.

Issued in Renton, Washington, on September 11, 2009.
Stephen P. Boyd,
Acting Manager, Transport Airplane Directorate, Aircraft Certification Service.

[FR Doc. E9-22667 Filed 9-18-09; 8:45 am]

BILLING CODE 4910-13-P